DEPARTMENT OF ENERGY

Federal Energy Regulatory Commission

[Docket Nos. RP02-318-000 and CP99-13-000]

Questar Southern Trails Pipeline Company; Notice of Tariff Filing

May 7, 2002.

Take notice that on May 1, 2002, Questar Southern Trails Pipeline Company (Southern Trails) tendered for filing as part of its FERC Gas Tariff, Original Volume No. 1, the following tariff sheets, to be effective June 1, 2002:

Original Sheet Nos. 1-130

On October 15, 1999, Southern Trails received a Preliminary Determination on Nonenvironmental issues in Docket Nos. CP99-163-000, et al. In the October 15, 1999, order and in the order dated July 28, 2000, on rehearing, the Commission directed Southern Trails to file, not less than thirty days nor more than sixty days prior to the proposed effective date, revised rates and tariff sheets consistent with the modifications described in the orders.

In compliance with the Commission orders, Southern Trails is filing its Original Volume No. 1 FERC Gas Tariff. This filing is subdivided into three main Sections: (1) Tariff Changes ordered by the Commission, (2) modifications consistent with FERC Order Nos. 637 and 587-L through 587-N that update the original pro forma tariff and (3) miscellaneous tariff changes to update the General Terms & Conditions section of the tariff to be consistent with industry standards and procedures.

Southern Trails states that a copy of this filing has been served upon its customers, the Public Service Commissions of Utah, New Mexico, Arizona and California.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-11856 Filed 5-10-02; 8:45 am]

BILLING CODE 6717-01-P